DEPARTMENT OF LABOR

Employee Benefits Security Administration

Advisory Council on Employee Welfare and Pension Benefit Plans; 139th Full Council Meeting; Notice of Meeting

Pursuant to the authority contained in section 512 of the Employee Retirement Income Security Act of 1974 (ERISA), 29 U.S.C. 1142, the 139th open meeting of the full Advisory Council on Employee Welfare and Pension Benefit Plans will be held on September 19, 2007.

The session will take place in Room N4437 A-C, U.S. Department of Labor, 200 Constitution Avenue, NW., Washington, DC 20210. The purpose of the open meeting, which will start at 9 a.m., is for members to be updated on activities of the Employee Benefits Security Administration and for chairs of this year's Working Groups to provide progress reports on their individual study topics.

Organizations or members of the public wishing to submit a written statement may do so by submitting 25 copies on or before September 12, 2007 to Larry Good, Executive Secretary, ERISA Advisory Council, U.S. Department of Labor, Suite N-5623, 200 Constitution Avenue, NW., Washington, DC 20210. Statements also may be submitted electronically to good.larry@dol.gov. Statements received on or before September 12 will be included in the record of the meeting. Individuals or representatives of organizations wishing to address the Advisory Council should forward their requests to the Executive Secretary or telephone (202) 693-8668. Oral presentations will be limited to 20 minutes, time permitting, but an extended statement may be submitted for the record. Individuals with disabilities, who need special accommodations, should contact Larry Good by September 12 at the address indicated.

Signed at Washington, DC, this 23rd day of August, 2007.
Ivan Strasfeld,
Director, Office of Exemption Determinations, Employee Benefits Security Administration.

[FR Doc. E7-17050 Filed 8-28-07; 8:45 am]

BILLING CODE 4510-29-P